DEPARTMENT OF TRANSPORTATION

Federal Aviation Administration

Proposed New Restricted Category Aircraft—Special Purpose Operations

AGENCY: Federal Aviation Administration (FAA), DOT.

ACTION: Notice of availability and request for public comments.

SUMMARY: This notice announces the availability of and requests comment on the proposed addition of several new restricted category special purpose operations pursuant to Title 14 of the Code of Federal Regulations. These include Humanitarian Assistance/Disaster Relief, and An expansion of Patrolling to include patrolling of railroads, waterways and harbors.

Comments Invited: Interested persons are invited to comment on the proposed new special purpose operations for restricted category by submitting such written data, views, or arguments, in favor or opposed. Please forward you comments to Federal Aviation Administration, Aircraft Certification Service, Policy & Innovation Division, Certification Procedures Section (AIR-6C1), 950 L'Enfant Plaza SW, Washington, DC 20024. ATTN: Mr. Graham Long. Comments must be received on or before April 24, 2019.

FOR FURTHER INFORMATION CONTACT: Federal Aviation Administration, Aircraft Certification Service, Policy & Innovation Division, Certification Procedures Section (AIR-6C1) at 950 L'Enfant Plaza SW, Washington, DC 20024.

ATTN: Mr. Graham Long. You may contact Mr. Long at (202) 267-1624, Fax (202) 267-1813, or Email: graham.long@faa.gov.

SUPPLEMENTARY INFORMATION: The FAA is considering several new restricted category aircraft—special purpose operations pursuant to 14 CFR 21.25(b)(7). Approval of these new special purpose operations would improve the usability of restricted category aircraft and support the public welfare. The proposed new special purpose operations are: (1) Humanitarian Assistance/Disaster Relief, and (2) an expansion of Patrolling to include patrolling of Railroads, Waterways and Harbors. These operations are intended to be performed within the scope of “aerial work operations.” Note, pursuant to § 91.313, the operating limitations and the noise requirements pursuant to 14 CFR part 36, will apply to these special purpose operations in restricted category, unless otherwise waived.

1. Humanitarian Assistance/Disaster Relief: Recent natural disasters in the United States (notably Hurricane Katrina in 2005 and multiple hurricanes in 2017) have prompted the FAA to consider allowing restricted category aircraft to operate under these types of circumstances to make available additional aviation resources to provide humanitarian assistance and/or disaster relief. The proposed mission involves bringing in needed materials and supplies (i.e., cargo only—no passengers) to the affected area, or moving materials and supplies within the area. This approval is intended to be performed within the scope of “aerial work operations” and would be available to both rotary wing and fixed wing aircraft. In addition, this operation would potentially include aerial delivery/airdropping of supplies. FAA is considering limiting this approval to periods when a government agency has made a declaration of a state of emergency, or similar declaration.

2. Patrolling Railroads, Waterways and Harbors: Restricted category aircraft, both rotary wing and fixed wing, are currently able to be used for patrolling pipelines, power lines, and canals. We are considering expanding Patrolling to include patrolling railroads, waterways and harbors to enable the use of restricted category aircraft in these missions. FAA further wants to clarify that patrolling operations are to be for inspection, security, and safety purposes, and are intended to be performed within the scope of “aerial work operations.”

Issued in Washington, DC.
Melvin J. Johnson,
Deputy Director, Policy & Innovation Division, AIR-601, Aircraft Certification Service.

[FR Doc. 2019-05662 Filed 3-22-19; 8:45 am]

BILLING CODE 4910-13-P